DEPARTMENT OF STATE

[Public Notice: 6692]

30-Day Notice of Proposed Information Collection: DS-7655, Iraqi Citizens and Nationals Employed by U.S. Federal Contractors, Grantees, and Cooperative Agreement Partners, OMB Control Number 1405-0184

ACTION: Notice of request for public comment and submission to OMB of proposed collection of information.

SUMMARY: The Department of State has submitted the following information collection request to the Office of Management and Budget (OMB) for approval in accordance with the Paperwork Reduction Act of 1995.

• Title of Information Collection: Iraqi Citizens and Nationals Employed by U.S. Federal Contractors, Grantees, and Cooperative Agreement Partners.

• OMB Control Number: 1405-0184.

• Type of Request: Extension of a Currently Approved Collection.

• Originating Office: A/LM.

• Form Number: DS-7655.

• Respondents: Federal contractors, grantees, and cooperative agreement partners of the Department of State.

• Estimated Number of Respondents: 50.

• Estimated Number of Responses: 50.

• Average Hours per Response: .50.

• Total Estimated Burden: 100 hours.

• Frequency: On occasion.

• Obligation to Respond: Mandatory.

DATES: Submit comments to the Office of Management and Budget (OMB) for up to 30 days from July 14, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-5806.

FOR FURTHER INFORMATION CONTACT: You may obtain copies of the proposed information collection and supporting documents from Rob Lower, Department of State, A/LM Room 525, P.O. Box 9115 Rosslyn Station, Arlington, VA 22219, who may be reached at 703-875-5822 or at lowerrs@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Refugee Crisis in Iraq Act of 2007 was included in the National Defense Authorization Act of 2008 which became Public Law 110-181 on 28 January 2008. Section 1248(c) of this Act requires the Secretary of State to request from each Department of State prime contractor, grantee, or cooperative agreement partner that has performed work in Iraq since March 20, 2003, under a contract, grant, or cooperative agreement with the Department that is valued in excess of $25,000, information that can be used to verify the employment of Iraqi citizens and nationals by such contractor, grantee or cooperative agreement partner. To the extent possible, biographical information, to include employee name, date(s) of employment, biometric, and other data must be collected and used to verify employment for the processing and adjudication of refugee, asylum, special immigrant visa, and other immigration claims and applications.

Methodology

The Department of State will collect the information via electronic submission.

Additional Information

This information collection will be used to fulfill the requirements under Section 1248(c) of the National Defense Authorization Act of 2008 (Pub. L. 110-181).

Dated: July 1, 2009.
William H. Moser,
Deputy Assistant Secretary, Office of Logistics Management, Bureau of Administration, Department of State.

[FR Doc. E9-16284 Filed 7-13-09; 8:45 am]

BILLING CODE 4710-24-P